DEPARTMENT OF TRANSPORTATION

Coast Guard

[USCG 2001-9433]

Collection of Information Under Review by Office of Management and Budget (OMB): OMB Control Number 2115-0619

AGENCY: Coast Guard, DOT.

ACTION: Request for comments.

SUMMARY: In compliance with the Paperwork Reduction Act of 1995, the Coast Guard intends to seek the approval of OMB for the renewal of one Information Collection Request (ICR). The ICR comprises Inflatable Personal Flotation Devices for Recreational Vessels. Before submitting the ICR to OMB, the Coast Guard is requesting comments on it.

DATES: Comments must reach the Coast Guard on or before June 25, 2001.

ADDRESSES: You may mail comments to the Docket Management System (DMS) [USCG 2001-9433], U.S. Department of Transportation (DOT), room PL-401, 400 Seventh Street SW., Washington, DC 20590-0001, or deliver them to room PL-401, located on the Plaza Level of the Nassif Building at the same address between 9 a.m. and 5 p.m., Monday through Friday, except Federal holidays. The telephone number is 202-366-9329.

The DMS maintains the public docket for this request. Comments will become part of this docket and will be available for inspection or copying in room PL-401, located on the Plaza Level of the Nassif Building at the above address between 9 a.m. and 5 p.m., Monday through Friday, except Federal holidays. You may also access this docket on the Internet at http://dms.dot.gov.

Copies of the complete ICR are available through this docket on the Internet at http://dms.dot.gov and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on this document; or Dorothy Beard, Chief, Documentary Services Division, U.S. Department of Transportation, 202-366-5149, for questions on the docket.

Request for Comments

The Coast Guard encourages interested persons to submit written comments. Persons submitting comments should include their names and addresses, identify this document [USCG 2001-9433], and give the reason for the comments. Please submit all comments and attachments in an unbound format no larger than 8½ by 11 inches, suitable for copying and electronic filing. Persons wanting acknowledgment of receipt of comments should enclose stamped self-addressed postcards or envelopes.

Information Collection Request

1. Title: Inflatable Personal Flotation Devices for Recreational Vessels.

OMB Control Number: 2115-0619.

Summary: The information collected will identify inflatable personal flotation devices (PFDs) by number, ensure compliance with Coast Guard regulations, and, made public, inform owners of PFDs on proper use, care, and maintenance of PFDs.

Need: The information collected under 46 CFR subpart 160.076 mainly concerns the labeling and preparation of manuals for inflatable PFDs. 33 CFR 175.15 requires that every person using a recreational vessel carry enough PFDs for each person on board. In keeping with this requirement, the Coast Guard has established a system for approval of PFDs for use on such vessels. To facilitate approval and inspection, the Coast Guard requires that manufacturers place labels on their devices and publish manuals to help the users. The labels serve two purposes. First, they indicate the chest size of each PFD and also display printed and pictographic instructions for proper use and care of it. Second, because they include specific product numbers and manufacturers' names, they are central to the Coast Guard's mission of identifying faulty equipment and then notifying the responsible producer. Like the labels, the manuals serve two purposes. First, they give the users information they will need to properly use and maintain the PFDs. Second, they keep the Coast Guard current on the specifications and design of new PFDs.

Respondents: Frequency: Manufacturers of PFDs.

Frequency: On occasion.

Burden Estimate: The estimated burden is 1,406 hours a year.

Dated: 16 April 2001.
N.S. Heiner,
Acting Director of Information and Technology.

[FR Doc. 01-10139 Filed 4-23-01; 8:45 am]

BILLING CODE 4910-15-U